DEPARTMENT OF ENERGY

Federal Energy Regulatory Commission

Combined Notice of Filings #2

Take notice that the Commission received the following electric corporate filings:

Docket Numbers: EC11-76-000

Applicants: EAM Nelson Holding, LLC

Description: Application of EAM Nelson Holding, LLC for Authorization of Transaction Pursuant to Section 203 of the Federal Power Act and Request for Confidential Treatment.

Filed Date: 05/04/2011

Accession Number: 20110504-5137

Comment Date: 5 p.m. Eastern Time on Wednesday, May 25, 2011

Take notice that the Commission received the following electric rate filings:

Docket Numbers: ER11-2182-001

Applicants: Ameren Illinois Company

Description: Ameren Illinois Company submits tariff filing per 35: Compliance Filing for Ameren Illinois for Rate Schedules 125, 127 to be effective 5/5/2011.

Filed Date: 05/04/2011

Accession Number: 20110504-5000

Comment Date: 5 p.m. Eastern Time on Wednesday, May 25, 2011

Docket Numbers: ER11-2901-001

Applicants: Duke Energy Kentucky, Inc.

Description: Duke Energy Kentucky, Inc. submits tariff filing per 35.17(b): Answer to Deficiency Letter ER11-2901 to be effective 4/18/2011.

Filed Date: 05/04/2011

Accession Number: 20110504-5090

Comment Date: 5 p.m. Eastern Time on Wednesday, May 25, 2011

Docket Numbers: ER11-2902-001

Applicants: Duke Energy Indiana, Inc.

Description: Duke Energy Indiana, Inc. submits tariff filing per 35.17(b): Answer to Deficiency Letter ER11-2902 to be effective 4/18/2011.

Filed Date: 05/04/2011

Accession Number: 20110504-5094

Comment Date: 5 p.m. Eastern Time on Wednesday, May 25, 2011

Docket Numbers: ER11-3370-000

Applicants: Phalanx Energy Services, LLC

Description: Supplement to Application for Market-Based Rate Authorization under Section 205 of Phalanx Energy Services, LLC.

Filed Date: 04/27/2011

Accession Number: 20110427-5178

Comment Date: 5 p.m. Eastern Time on Monday, May 9, 2011

Docket Numbers: ER11-3510-001

Applicants: California Independent System Operator Corporation

Description: California Independent System Operator Corporation submits tariff filing per 35.17(b): 2011-05-04 Errata to Self-Provision of Regulation Amendment to be effective 5/24/2011.

Filed Date: 05/04/2011

Accession Number: 20110504-5112

Comment Date: 5 p.m. Eastern Time on Wednesday, May 25, 2011

Docket Numbers: ER11-3513-000

Applicants: PJM Interconnection, L.L.C.

Description: PJM Interconnection, L.L.C. submits tariff filing per 35.13(a)(2)(iii) Queue No. U2-077 & W1-001 Interim ISA, Original Service Agreement No. 2862 to be effective 4/6/2011.

Filed Date: 05/04/2011

Accession Number: 20110504-5040

Comment Date: 5 p.m. Eastern Time on Wednesday, May 25, 2011

Docket Numbers: ER11-3514-000

Applicants: Entergy Arkansas, Inc.

Description: Entergy Arkansas, Inc. submits tariff filing per 35.12: PLUM NLR DTOA to be effective 5/1/2011.

Filed Date: 05/04/2011

Accession Number: 20110504-5054

Comment Date: 5 p.m. Eastern Time on Wednesday, May 25, 2011

Docket Numbers: ER11-3515-000

Applicants: PJM Interconnection, L.L.C.

Description: PJM Interconnection, L.L.C. submits tariff filing per 35.13(a)(2)(iii) Queue No. W3-041; Original Service Agreement No. 2858 to be effective 4/11/2011.

Filed Date: 05/04/2011

Accession Number: 20110504-5065

Comment Date: 5 p.m. Eastern Time on Wednesday, May 25, 2011

Docket Numbers: ER11-3516-000

Applicants: PJM Interconnection, L.L.C.

Description: PJM Interconnection, L.L.C. on May 3, 2011, PJM submitted to FERC a Request for Limited Tariff Waiver of Section 3.2.3(f) of Attachment K—Appendix of the PJM Tariff and the parallel provisions.

Filed Date: 05/03/2011

Accession Number: 20110503-5273

Comment Date: 5 p.m. Eastern Time on Tuesday, May 24, 2011

Docket Numbers: ER11-3518-000

Applicants: Florida Power & Light Company

Description: Florida Power & Light Company submits tariff filing per 35: Amendment to FPL's OATT Attachment C to be effective 3/31/2011.

Filed Date: 05/04/2011

Accession Number: 20110504-5100

Comment Date: 5 p.m. Eastern Time on Wednesday, May 25, 2011

Docket Numbers: ER11-3519-000

Applicants: NedPower Mount Storm, L.L.C.

Description: NedPower Mount Storm, L.L.C. submits tariff filing per 35: Compliance Filing—NedPower Sect. VI to be effective 5/5/2011.

Filed Date: 05/04/2011

Accession Number: 20110504-5111

Comment Date: 5 p.m. Eastern Time on Wednesday, May 25, 2011

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: May 4, 2011.
Nathaniel J. Davis, Sr.,
Deputy Secretary.

[FR Doc. 2011-11373 Filed 5-9-11; 8:45 am]

BILLING CODE 6717-01-P